DEPARTMENT OF COMMERCE

International Trade Administration

[A-351-849]

Emulsion Styrene-Butadiene Rubber From Brazil: Final Results of Antidumping Duty Administrative Review; 2019-2020

AGENCY: Enforcement and Compliance, International Trade Administration, Department of Commerce.

SUMMARY: The Department of Commerce (Commerce) has continued to base the dumping margin for the sole respondent under review, ARLANXEO Brasil S.A. (ARLANXEO Brasil), on total adverse facts available (AFA), pursuant to sections 776(a) and (b) of the Tariff Act of 1930, as amended (the Act). The period of review (POR) is September 1, 2019, through August 31, 2020.

DATES: Applicable September 24, 2021.

FOR FURTHER INFORMATION CONTACT: Drew Jackson, AD/CVD Operations, Office IV, Enforcement and Compliance, International Trade Administration, U.S. Department of Commerce, 1401 Constitution Avenue NW, Washington, DC 20230; telephone: (202) 482-4406.

SUPPLEMENTARY INFORMATION:

Background

On June 8, 2021, Commerce published the Preliminary Results.¹ This administrative review covers one producer/exporter of subject merchandise, ARLANXEO Brasil. We invited interested parties to comment on the Preliminary Results.² No party submitted comments on the Preliminary Results. Accordingly, the final results remain unchanged from the Preliminary Results.

¹ See Emulsion Styrene-Butadiene Rubber From Brazil: Preliminary Results of Antidumping Duty Administrative Review; 2019-2020, 86 FR 30401 (June 8, 2021) (Preliminary Results), and accompanying Preliminary Decision Memorandum (PDM).

² Id.

On August 9, 2021, after the issuance of the Preliminary Results, Commerce invited interested parties to comment on emulsion styrene-butadiene rubber (ESB rubber) grading, an issue raised by interested parties in the 2019-2020 administrative review of ESB rubber from Mexico.³ Between August 19 and 20, 2021, interested parties submitted comments on product grading.⁴ However, Commerce has applied total AFA in determining ARLANXEO Brasil's weighted-average dumping margin in the instant administrative review. As such, the issue of product grading, which affects model matching in margin calculations, is moot because Commerce performed no margin calculations in this review.⁵ Therefore, Commerce has not addressed the issue of product grading in these final results of review.

³ Commerce placed on the record of this proceeding excerpts of the questionnaire response of Industrias Negromex S.A. de C.V. (Negromex), a respondent in the 2019-2020 administrative review emulsion styrene-butadiene rubber from Mexico. The excerpts of the questionnaire response related to Negromex's claim that its merchandise classified as “Grade E1778R” is equivalent to the International Institute of Synthetic Rubber Producers Grade E1763 merchandise. See Memorandum, “Soliciting Comments on Product Grading,” dated August 9, 2021.

⁴ See Lion Elastomers, LLC (the petitioner)'s Letter, “Antidumping Review of the Antidumping Duty Order on Emulsion Styrene Butadiene Rubber (E-SBR) from Brazil and Mexico: Lion Elastomers, LLC's Comments on Product Grading,” dated August 19, 2021; see also Negromex and its affiliated U.S. importer, Dynasol, LLC's Letter, “Emulsion Styrene Butadiene Rubber from Brazil and Mexico Comments on Product Grading,” dated August 20, 2021.

⁵ See Preliminary Results, 86 FR 30401, and accompanying PDM at 2-6.

Commerce conducted this review in accordance with section 751(a)(1)(B) and (2) of the Act.

Scope of the Order

The merchandise covered by the Order is certain ESB rubber from Brazil.⁶ The merchandise subject to this order is currently classifiable under subheadings 4002.19.0015 and 4002.19.0019 of the Harmonized Tariff Schedule of the United States (HTSUS). ESB rubber is described by Chemical Abstract Services (CAS) Registry No. 9003-55-8. This CAS number also refers to other types of styrene butadiene rubber. Although the HTSUS subheadings and CAS registry number are provided for convenience and customs purposes, the written description of the scope of this Order is dispositive.⁷

⁶ See Emulsion Styrene-Butadiene Rubber from Brazil, the Republic of Korea, Mexico, and Poland: Antidumping Duty Orders, 82 FR 42790 (September 12, 2017) (Order).

⁷ For a full description of the scope of the Order, see the Preliminary Results PDM at 2.

Use of Adverse Facts Available

Pursuant to sections 776(a) and (b) of the Act, Commerce continues to base ARLANXEO Brasil's dumping margin on total AFA, because it withheld requested information by declining to respond to our initial questionnaire.⁸ We have continued to use an AFA rate of 67.99 percent, which is the highest dumping margin alleged in the petition.⁹

⁸ See Preliminary Results PDM at 2-6.

⁹ Id. at 5-6.

Final Results of Review

As noted above, Commerce received no comments concerning the Preliminary Results. As there are no changes from, or comments upon, the Preliminary Results, Commerce finds that there is no reason to modify its analysis and calculations. Accordingly, we adopt the analysis and explanation in our Preliminary Results for the purposes of these final results of review and we have not prepared an Issues and Decision Memorandum to accompany this Federal Register notice.

As a result of this review, Commerce determines that the following weighted-average dumping margin exists for the period September 1, 2019, through August 31, 2020:

Exporter/producer | Weighted- average margin (percent)
ARLANXEO Brasil S.A. | 67.99

Disclosure

Normally, Commerce discloses to interested parties the calculations performed in connection with the final results of an administrative review within five days of its public announcement or, if there is no public announcement, within five days of the date of publication of the notice of final results in the Federal Register, in accordance with 19 CFR 351.224(b). However, because Commerce applied total AFA to the mandatory respondent under review in accordance with section 776 of the Act, there are no calculations to disclose.

Assessment Rates

Pursuant to section 751(a)(2)(C) of the Act and 19 CFR 351.212(b), Commerce has determined, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) The cash deposit rate for ARLANXEO Brasil S.A. will be equal to the rate listed for ARLANXEO Brasil in the table above; (2) for merchandise exported by producers or exporters not covered in this review but covered in a prior segment of this proceeding, the cash deposit will continue to be the company-specific rate published for the most recently completed segment of this proceeding in which the company participated; (3) if the exporter is not a firm covered in this review or the original less-than-fair-value (LTFV) investigation, but the producer is, then the cash deposit rate will be the rate established for the most recently completed segment for the producer of the subject merchandise; and (4) the cash deposit rate for all other producers or exporters will continue to be 19.61 percent ad valorem, the all-others cash deposit rate established in the LTFV investigation.¹⁰ These cash deposit requirements, when imposed, shall remain in effect until further notice.

¹⁰ See Emulsion Styrene-Butadiene Rubber from Brazil: Final Affirmative Determination of Sales at Less Than Fair Value and Final Negative Determination of Critical Circumstances, 82 FR 33048 (July 19, 2019).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these results of administrative review in accordance with sections 751(a) and 777(i) of the Act and 19 CFR 351.221(b)(5).

Dated: September 20, 2021.
Christian Marsh,
Acting Assistant Secretary for Enforcement and Compliance.

[FR Doc. 2021-20748 Filed 9-23-21; 8:45 am]

BILLING CODE 3510-DS-P